DEPARTMENT OF JUSTICE

[OMB Number 1105-0085]

Agency Information Collection Activities; Proposed eCollection eComments Requested; Extension, Without Change, of a Currently Approved Collection

AGENCY: United States Trustee Program, Department of Justice.

ACTION: Notice.

SUMMARY: The Department of Justice, United States Trustee Program, is submitting the following information collection request to the Office of Management and Budget (OMB) for review and approval in accordance with the Paperwork Reduction Act of 1995.

DATES: The Department of Justice encourages public comment and will accept input until October 7, 2019.

FOR FURTHER INFORMATION CONTACT: If you have additional comments especially on the estimated public burden or associated response time, suggestions, or need a copy of the proposed information collection instrument with instructions or additional information, please contact Juliet Drake, Deputy Assistant Director, Executive Office for United States Trustees, 441 G Street NW, Suite 6150, Washington DC 20530, Juliet.Drake@usdoj.gov, (202) 307-3698.

SUPPLEMENTARY INFORMATION: Written comments and suggestions from the public and affected agencies concerning the proposed collection of information are encouraged. Your comments should address one or more of the following four points:

—Evaluate whether the proposed collection of information is necessary for the proper performance of the functions of the United States Trustee Program, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension, without change, of a currently approved collection.

2. The Title of the Form/Collection: Application for Approval as a Provider of a Personal Financial Management Instructional Course (Application).

3. The agency form number, if any, and the applicable component of the Department sponsoring the collection: There is no agency form number for this collection. The applicable component within the Department of Justice is the United States Trustee Program.

4. Affected public who will be asked or required to respond, as well as a brief abstract: Individuals and businesses that wish to offer instructional courses to debtors concerning personal financial management pursuant to the Bankruptcy Abuse Prevention and Consumer Protection Act of 2005 (“BAPCPA”), Public Law 109-8, 119 Stat. 23, 37, 38 (April 20, 2005), and codified at 11 U.S.C. 109(h) and 111, and Application Procedures and Criteria for Approval of Providers of a Personal Financial Management Instructional Course by United States Trustees, 78 FR 16,159 (March 14, 2013) (Rule).

The BAPCPA requires individual debtors in bankruptcy cases to complete a personal financial management instructional course given by a provider that has been approved by the United States Trustee as a condition of receiving a discharge. The Application collects information from such providers in order to ensure compliance with the law and the Rule.

5. An estimate of the total number of respondents and the amount of time estimated for an average respondent to respond: It is estimated that 147 respondents will complete the Application; initial applicants will complete the Application in approximately ten (10) hours, while renewal applicants will complete the Application in approximately four (4) hours. In addition, it is estimated that approximately 996,970 debtors will complete a survey evaluating the effectiveness of an instructional course in approximately one (1) minute.

6. An estimate of the total public burden (in hours) associated with the collection: The estimated public burden associated with this collection is 17,228 hours: the applicants' burden is 612 hours and the debtors' burden is 16,616 hours.

If additional information is required contact: Melody Braswell, Department Clearance Officer, United States Department of Justice, Justice Management Division, Policy and Planning Staff, Two Constitution Square, 145 N Street NE, 3E.405A, Washington, DC 20530.

Dated: August 2, 2019.
Melody Braswell,
Department Clearance Officer for PRA, U.S. Department of Justice.

[FR Doc. 2019-16874 Filed 8-6-19; 8:45 am]

BILLING CODE 4410-40-P